DEPARTMENT OF COMMERCE

National Oceanic and Atmospheric Administration

[I.D. 041505C]

Western Pacific Fishery Management Council; Public Meetings

AGENCY: National Marine Fisheries Service (NMFS), National Oceanic and Atmospheric Administration (NOAA), Commerce.

ACTION: Notice of public meeting.

SUMMARY: The Western Pacific Fishery Management Council's (Council) Community Demonstration Project Program Advisory Panel (CDPP-AP) will meet on May 10 and 11, 2005, in Honolulu, HI. At the meeting, the Advisory Panel will select and rank proposals to be recommended for Council review. The Advisory Panel will develop criteria, objectives and priorities for recommendation to the Council for a subsequent solicitation for the Community Demonstration Project Program.

DATES: The meetings will be held on May 10 and 11, 2005. See SUPPLEMENTARY INFORMATION for specific dates, and times for the meetings.

ADDRESSES: The meeting will be held at the Council Office, 1164 Bishop Street, Honolulu, HI; telephone: 808-522-8220.

FOR FURTHER INFORMATION CONTACT: Kitty M. Simonds, Executive Director; telephone: 808-522-8220.

SUPPLEMENTARY INFORMATION: On February 1, 2005 (70 FR 5166), proposals were solicited through the Federal Register for grants to support Community Demonstration Projects in the Western Pacific Area. The grants are authorized under section 111(b) of the Sustainable Fisheries Act of 1996, Public Law 104-297. Solicitation was closed on April 4, 2005, 5:00 P.M., Hawaii Time.

A meeting of the CDPP-AP is scheduled for May 10 and 11, 2005 to review proposals and discuss the program.

At the meeting, the Advisory Panel will review and rank proposals to be recommended for Council review. The Council or its designee will select proposals to be recommended for funding to the NMFS Grants Management Division. Successful applicants will be notified of their selection. Proposals not selected for will be returned to the applicants. Successful applicants will participate in a Grant Workshop in Honolulu to complete their grant application.

Dates and Locations

The CDPP-AP will meet from 8 a.m. on May 10 and 11, at the Western Pacific Fishery Regional Fishery Management Council office. The order in which agenda items are addressed may change. The CDPP-AP will meet as late as necessary to complete scheduled business.

The agenda for the Community Demonstration Project Program Advisory Panel will include the items listed below:

May 10, 2005

1. Introductions

2. Report on the program implementation and workshops

3. Review selection criteria

4. Review of qualified proposals

May 11, 2005

1. Review and Ranking of proposals for recommendation to the Council

2. Program review

a. Development and review of objectives and priorities for the next solicitation

b. Review program eligibility criteria

c. Discussion and recommendations

Special Accommodations

This meeting is physically accessible to people with disabilities. Requests for sign language interpretation or other auxiliary aids should be directed to Kitty M. Simonds, 808-522-8220 (voice) or 808-522-8226 (fax), at least 5 days prior to the meeting date.

Dated: April 15, 2005.
Emily Menashes,
Acting Director, Office of Sustainable Fisheries, national marine Fisheries Service.

[FR Doc. E5-1857 Filed 4-19-05; 8:45 am]

BILLING CODE 3510-22-S